NATIONAL COUNCIL ON DISABILITY

Sunshine Act Meetings

TIME AND DATES: The Members of the National Council on Disability (NCD) will hold a quarterly meeting on Monday, October 22, 2012, 3:45 p.m.-5 p.m., ET; and on Tuesday, October 23, 2012, 9 a.m.-5 p.m., ET.

PLACE: The meeting will occur in-person at K&L Gates law firm, 1601 K Street, NW., at the corner of 16th and K Streets, Washington, DC 20006. Interested parties may join the meeting in person or may join the phone line in a listening-only capacity (with the exception of the public comment period) using the following call-in number: 1-888-438-5453; Passcode: 7040549. If asked, the conference call leader's name is Aaron Bishop.

MATTERS TO BE CONSIDERED: The Council will receive updates from the Council's standing committees and will deliberate on several policy project proposals on topics including automated vehicle technology, vocational rehabilitation, home- and community-based services, and veterans issues, including re-entry of veterans with disabilities into civilian life. The Council will also use the quarterly meeting to release and provide a policy briefing on a new NCD policy paper on deinstitutionalization (“Deinstitutionalization: Unfinished Business”) and its accompanying online toolkit.

Only the Governance and Planning Committee will provide its committee report on Monday, October 22, from 4:30-5 p.m., ET. The remaining committee reports, including deliberation on proposed policy projects, will resume on Tuesday, October 23, at 9:15 a.m., ET. During those deliberations, NCD Members will also discuss the format and topical focus for its 2013 Progress Report to the President and U.S. Congress during the morning of October 23. NCD's annual Progress Report is a statutorily mandated report intended to provide an assessment of the status of the nation in achieving equality of opportunity, economic self-sufficiency, independent living, and inclusion and integration into all aspects of society for people with disabilities, along with recommendations for policy changes. NCD is charged by Congress with seeking input from the public, particularly people with disabilities, in determining the issues on which to focus, and the findings, conclusions, and recommendations in the report. Accordingly, NCD welcomes public comment on October 23, from 4:00-4:30 p.m., ET, specific to suggestions regarding the focus, findings, conclusions, and recommendations of it 2013 Progress Report. The policy briefing on NCD's “Deinstitutionalization: Unfinished Business” policy paper will occur at approximately 2:15 p.m. on Tuesday, October 23.

PUBLIC COMMENT: The public comment period will take place on Tuesday, October 23, 2012, from 4 p.m.-4:30 p.m., ET. Although comments on any topic are accepted, NCD welcomes public comment specific to suggestions regarding the focus, findings, conclusions, and recommendations of it 2013 Progress Report.

Any individuals interested in providing public comment will be asked to provide their names and their organizational affiliations, if applicable, and to limit their comments to three minutes. Individuals may also provide public comment by sending their comments in writing to Lawrence Carter-Long, Public Affairs Specialist, at lcarterlong@ncd.gov, using the subject line of “Public Comment.”

CONTACT PERSON FOR MORE INFORMATION: Anne Sommers, NCD, 1331 F Street, NW., Suite 850, Washington, DC 20004; 202-272-2004 (V), 202-272-2074 (TTY).

ACCOMMODATIONS: Those who plan to attend and require accommodations should notify NCD as soon as possible to allow time to make arrangements.

Dated: September 28, 2012.
Aaron Bishop,
Executive Director.

[FR Doc. 2012-24449 Filed 10-1-12; 11:15 am]

BILLING CODE 6820-MA-P